DEPARTMENT OF TRANSPORTATION

Federal Aviation Administration

14 CFR Part 71

[Docket No. FAA-2006-24748; Airspace Docket No. 06-AAL-15]

Revision of Class E Airspace; Perryville, AK

AGENCY: Federal Aviation Administration (FAA), DOT.

ACTION: Final rule.

SUMMARY: This action revises Class E airspace at Perryville, AK to provide adequate controlled airspace to contain aircraft executing a new Standard Instrument Approach Procedure (SIAP) and a new Stardard Instrument Departure procedure (SID). This rule results in the revision of Class E airspace upward from 700 feet (ft.) and 1,200 ft. above the surface at Perryville, AK.

DATES: Effective Date: 0901 UTC, March 15, 2007. The Director of the Federal Register approves this incorporation by reference action under title 1, Code of Federal Regulations, part 51, subject to the annual revision of FAA Order 7400.9 and publication of conforming amendments.

FOR FURTHER INFORMATION CONTACT: Gary Rolf, AAL-538G, Federal Aviation Administration, 222 West 7th Avenue, Box 14, Anchorage, AK 99513-7587; telephone number (907) 271-5898; fax: (907) 271-2850; e-mail: gary.ctr.rolf@faa.gov. Internet address: http://www.alaska.faa.gov/at.

SUPPLEMENTARY INFORMATION:

History

On Thursday, October 5, 2006, the FAA proposed to amend part 71 of the Federal Aviation Regulations (14 CFR part 71) to revise Class E airspace upward from 700 ft. and 1,200 ft. above the surface at Perryville, AK (71 FR 58764). The action was proposed in order to create Class E airspace sufficient in size to contain aircraft while executing one new SIAP and one new SID for the Perryville Airport. The new approach is the Area Navigation (Global Positioning System) (RNAV (GPS)) Runway (RWY) 02, Original. The SID is the CILAC TWO departure. Class E controlled airspace extending upward from 700 ft. and 1,200 ft. above the surface in the Perryville Airport area is revised by this action. There is an issue with charting domestic controlled airspace near Perryville, Alaska. Any airspace to the West of 160° West Longitude must be defined in the Offshore Airspace Area named Control 1234L, even if the airspace is within 12 miles of the shoreline. The Notice of Proposed Rulemaking mentioned this issue, but did not explain that this is a charting issue and does not impact controlled airspace. Any of the controlled airspace necessary for service at Perryville Airport which lies to the west of 160° W. Longitude must be described in the Offshore definition for Control 1234L. Domestic airspace east of 160° W. Longitude extends to 12 miles from the shoreline. The airspace definition delineation between Offshore and domestic controlled airspace is not necessary because the 12-mile limit line is shown on aeronautical charts. To address the delineation in the controlled airspace description would be redundant. The Offshore Airspace action associated with this rule is taking place concurrently in a separate airspace rule.

Interested parties were invited to participate in this rulemaking proceeding by submitting written comments on the proposal to the FAA. No public comments have been received; thus the rule is adopted as proposed.

The area will be depicted on aeronautical charts for pilot reference. The coordinates for this airspace docket are based on North American Datum 83. The Class E airspace areas designated as 700/1,200 ft. transition areas are published in paragraph 6005 of FAA Order 7400.9P, Airspace Designations and Reporting Points, dated September 1, 2006, and effective September 15, 2006, which is incorporated by reference in 14 CFR 71.1. The Class E airspace designation listed in this document will be published subsequently in the Order.

The Rule

This amendment to 14 CFR part 71 revises Class E airspace at the Perryville Airport, Alaska. This Class E airspace is revised to accommodate aircraft executing one new SIAP and one new SID, and will be depicted on aeronautical charts for pilot reference. The intended effect of this rule is to provide adequate controlled airspace for IFR operations at the Perryville Airport, Perryville, Alaska.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

The FAA's authority to issue rules regarding aviation safety is found in Title 49 of the United States Code. Subtitle 1, Section 106 describes the authority of the FAA Administrator. Subtitle VII, Aviation Programs, describes in more detail the scope of the agency's authority.

This rulemaking is promulgated under the authority described in Subtitle VII, Part A, Subpart 1, Section 40103, Sovereignty and use of airspace. Under that section, the FAA is charged with prescribing regulations to ensure the safe and efficient use of the navigable airspace. This regulation is within the scope of that authority because it creates Class E airspace sufficient in size to contain aircraft executing instrument procedures for the Perryville Airport and represents the FAA's continuing effort to safely and efficiently use the navigable airspace.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9P, Airspace Designations and Reporting Points, dated September 1, 2006, and effective September 15, 2006, is amended as follows:

* * * * *

Paragraph 6005 Class E Airspace Extending Upward From 700 Feet or More Above the Surface of the Earth

* * * * *

AAL AK E5 Perryville, AK [Revised]

Perryville Airport, AK

(Lat. 55°54′24″ N., long. 159°09′39″ W.)

That airspace extending upward from 700 feet above the surface within a 14.7-mile radius of the Perryville Airport, AK; and that airspace east of long. 160°00′00″ W. extending upward from 1,200 feet above the surface within a 81.2-mile radius of Perryville Airport, AK.

* * * * *

Issued in Anchorage, AK, on December 8, 2006.
Anthony M. Wylie,
Manager, Alaska Flight Service Information Office.

[FR Doc. E6-21533 Filed 12-18-06; 8:45 am]

BILLING CODE 4910-13-P